DEPARTMENT OF TRANSPORTATION

Federal Aviation Administration

14 CFR Part 39

[Docket No. FAA-2000-8460; Amdt. No. 39-9474]

RIN 2120-AH17

Airworthiness Directives; Correction

AGENCY: Federal Aviation Administration (FAA), DOT.

ACTION: Final rule; correction.

SUMMARY: This document contains a correction to the final rule, published in the Federal Register on July 22, 2002 (67 FR 47998). That final rule incorporates several standard provisions previously included in most airworthiness directives into the Code of Federal Regulations. FAA will no longer include these provisions in individual airworthiness directives. FAA is taking this action to standardize the way we write airworthiness directives. This action will enhance aviation safety by making it easier for users to focus on specific safety concerns addressed in airworthiness directives.

DATES EFFECTIVE: August 21, 2002.

FOR FURTHER INFORMATION CONTACT: Donald Byrne, (202) 267-3073.

Correction of Publication

In the final rule FR Doc. 02-17743, beginning on page 47998 in the Federal Register issue of July 23, 2002, make the following corrections:

1. On page 47998, in column 1, in the heading section, beginning on line 6, correct “RIN 2120-AH64” to read “RIN 2120-AH17”.

Dated: Issued in Washington, DC on July 25, 2002.
Donald P. Byrne,
Assistant Chief Counsel, Regulations Division.

[FR Doc. 02-19366 Filed 7-31-02; 8:45 am]

BILLING CODE 4910-13-M